DEPARTMENT OF COMMERCE

Foreign-Trade Zones Board

[Docket A(27f)-20-01]

Foreign-Trade Zone 149—Freeport, TX, Request for Minor Modification—Subzone 149C, Phillips Petroleum Company, Sweeney, TX (Crude Oil Refinery Complex)

An application has been submitted to the Foreign-Trade Zones Board (the Board) by the Port of Freeport, grantee of FTZ 149, requesting authority on behalf of Phillips Petroleum Company (Phillips), pursuant to Section 400.27(f) of the Board's regulations, for a minor modification of the list of products that can be produced from non-privileged (NPF) inputs referenced in Restriction #2 of FTZ Board Order 920 (62 FR 51830, 10/3/97) and Board Order 1116 (65 FR 52696, 8/30/00), authorizing Subzone 149C at Phillips' oil refinery complex in Sweeney, Texas. The application was submitted pursuant to the provisions of the Foreign-Trade Zones Act, as amended (19 U.S.C. 81a-81u), and the regulations of the Board (15 CFR part 400). It was formally filed on April 10, 2001.

The company is now requesting to add four additional refinery products—normal pentane, iso-pentane, hexane and C5 diolefins (HTSUS 2901.10.3000, 2901.10.4000 and 2901.29.5000, duty-free)-to the list of petrochemical feedstocks and refinery by-products that can be produced from NPF status inputs (e.g., crude oil) at the refinery. The list is referenced as Appendix “C” of the Examiner's Report in Board Orders 920 and 1116, Restriction #2.

Public comment on the application is invited from interested parties. Submissions (original and 3 copies) shall be addressed to the Board's Executive Secretary at the address below. The closing period for their receipt is May 23, 2001. Rebuttal comments in response to material submitted during the foregoing period may be submitted during the subsequent 15-day period to June 7, 2001.

A copy of the application and the accompanying exhibits will be available for public inspection at the following location: Office of the Executive Secretary, Foreign-Trade Zones Board, Room 4008, U.S. Department of Commerce, 14th and Pennsylvania Avenue, NW., Washington, DC 20230.

Dated: April 11, 2001.
Dennis Puccinelli,
Executive Secretary.

[FR Doc. 01-9981 Filed 4-20-01; 8:45 am]

BILLING CODE 3510-DS-P